DEPARTMENT OF DEFENSE

Department of the Army

Notice of Intended Disinterment

AGENCY: Department of the Army, DoD.

ACTION: Notice of intended disinterment.

SUMMARY: The Office of Army Cemeteries (OAC) is honoring the requests of the family members to disinter the human remains of five Native American students from the Carlisle Barracks Post Cemetery, Carlisle, Pennsylvania. The decedent names are: Edward Upright from the Spirit Lake Tribe, Amos LaFramboise from the Sisseton Wahpeton Oyate of the Lake Traverse Reservation, Beau Neal from the Northern Arapaho Tribe, Edward Spott from the Puyallup Tribe and Launy Shorty from the Blackfeet Nation. These students died between 1880 and 1910 while attending the Carlisle Indian Industrial School. See the SUPPLEMENTARY INFORMATION section of this document for more details.

DATES: The Army intends to begin disinterment activities on September 11, 2023. Transportation to and reinterment in private cemeteries will take place as soon as practical after the disinterment. If other living relatives object to the disinterment of these remains, please provide written objection to Captain Travis Fulmore at the email addresses listed below prior to July 1st, 2023. Such objections may delay the disinterment for the decedent in question.

ADDRESSES: Objections from family members and public comments can be mailed to Captain Travis Fulmore, OAC Project Manager, 1 Memorial Avenue, Arlington, VA 22211 or emailed to usarmy.pentagon.hqda-anmc.mbx.accountability-coe@army.mil (preferred).

FOR FURTHER INFORMATION CONTACT: Captain Travis Fulmore, OAC Project Manager, at 703-695-3570, or usarmy.pentagon.hqda-anmc.mbx.accountability-coe@army.mil (preferred).

SUPPLEMENTARY INFORMATION: OAC has received written requests for disinterment from the closest living descendent of each of the five individuals. OAC will disinter and facilitate the transport and reinterment of the remains to private cemeteries chosen by the families at government expense. This disinterment will be conducted under the authority of Army Regulation 290-5, in accordance with the Native American Graves Protection and Repatriation (NAGPRA) savings clauses at 25 U.S. Code 3009. Individually marked graves located within the Carlisle Barracks Post Cemetery do not constitute “holdings or collections” of the Army (§ 3003(a)) nor does NAGPRA (§ 3002) require the Army to engage in the intentional excavation or exhumation of a grave.

Additional information related to Native Americans buried at the Carlisle Barracks Post Cemetery can be found at https://armycemeteries.army.mil/Cemeteries/Carlisle-Barracks-Main-Post-Cemetery.

James W. Satterwhite, Jr.,
Army Federal Register Liaison Officer.

[FR Doc. 2023-11037 Filed 5-23-23; 8:45 am]

BILLING CODE 3711-02-P